ENVIRONMENTAL PROTECTION AGENCY

[Petitions IV-2014-5 and -6; FRL-9950-17-Region 4]

Clean Air Act Operating Permit Program; Petitions for Objection to State Operating Permits for ABC Coke and Walter Coke (Jefferson County, Alabama)

AGENCY: Environmental Protection Agency (EPA).

ACTION: Notice of final order on petitions to object to state operating permits.

SUMMARY: The Environmental Protection Agency (EPA) Administrator signed an Order, dated July 15, 2016, denying petitions to object to Clean Air Act (CAA) title V operating permits issued by the Jefferson County Department of Health (JCDH) to ABC Coke for its facility located in Tarrant and Walter Coke for its facility located in North Birmingham, both in Jefferson County, Alabama. This Order constitutes a final action on the petitions submitted by Gasp (Petitioner) and received by EPA on October 3, 2014, and December 2, 2014, respectively.

ADDRESSES: Copies of the Order, the petitions, and all pertinent information relating thereto are on file at the following location: EPA Region 4; Air, Pesticides and Toxics Management Division; 61 Forsyth Street SW., Atlanta, Georgia 30303-8960. The Order is also available electronically at the following address: https://www.epa.gov/sites/production/files/2016-07/documents/gasp_response2014.pdf.

FOR FURTHER INFORMATION CONTACT: Art Hofmeister, Air Permits Section, EPA Region 4, at (404) 562-9115 or hofmeister.art@epa.gov.

SUPPLEMENTARY INFORMATION: The CAA affords EPA a 45-day period to review and, as appropriate, the authority to object to operating permits proposed by state permitting authorities under title V of the CAA, 42 U.S.C. 7661-7661f. Section 505(b)(2) of the CAA and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period. Pursuant to sections 307(b) and 505(b)(2) of the CAA, a petition for judicial review of those parts of the Order that deny issues in the petition may be filed in the United States Court of Appeals for the appropriate circuit within 60 days from the date this notice is published in the Federal Register.

Petitioners submitted petitions regarding the aforementioned ABC Coke and Walter Coke facilities, requesting that EPA object to the CAA title V operating permits (#4-07-0001-03 and 4-07-0355-03, respectively). Petitioner alleged that the permits were not consistent with the CAA because: (1) They lack the conditions necessary to assure compliance with the general prohibition against “air pollution”; (2) they contain conditions governing fugitive dust that are too vague or too restrictive; and (3) JCDH failed to provide Petitioner with sufficient emissions information to participate meaningfully in the permitting process with respect to Walter Coke.

On July 15, 2016, the Administrator issued an Order denying the petitions. The Order explains EPA's rationale for denying the petitions.

Dated: July 26, 2016.
Heather McTeer Toney,
Regional Administrator, Region 4.

[FR Doc. 2016-18394 Filed 8-2-16; 8:45 am]

BILLING CODE 6560-50-P